DEPARTMENT OF TRANSPORTATION

Federal Aviation Administration

14 CFR Part 97

[Docket No. 31083 Amdt. No. 3702]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective July 11, 2016. The compliance date for each SIAP, associated Takeoff Minimums, and ODP is specified in the amendatory provisions. The incorporation by reference of certain publications listed in the regulations is approved by the Director of the Federal Register as of July 11, 2016.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on June 17, 2016.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

§§ 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * EFFECTIVE UPON PUBLICATION

AIRAC date | State | City | Airport | FDC No. | FDC date | Subject
21-Jul-16 | ID | Bonners Ferry | Boundary County | 6/0359 | 6/1/16 | RNAV (GPS) RWY 2, Orig-D.
21-Jul-16 | WA | Ellensburg | Bowers Field | 6/0363 | 6/1/16 | RNAV (GPS)-C, Orig-A.
21-Jul-16 | OR | Klamath Falls | Klamath Falls | 6/0364 | 6/1/16 | ILS OR LOC/DME RWY 32, Amdt 20.
21-Jul-16 | OR | Klamath Falls | Klamath Falls | 6/0365 | 6/1/16 | RNAV (GPS) RWY 14, Amdt 1.
21-Jul-16 | OR | Klamath Falls | Klamath Falls | 6/0366 | 6/1/16 | RNAV (GPS) RWY 32, Orig.
21-Jul-16 | OR | Klamath Falls | Klamath Falls | 6/0367 | 6/1/16 | VOR/DME OR TACAN RWY 14, Amdt 5B.
21-Jul-16 | OR | Klamath Falls | Klamath Falls | 6/0368 | 6/1/16 | VOR/DME OR TACAN RWY 32, Amdt 5.
21-Jul-16 | HI | Kahului | Kahului | 6/0372 | 6/1/16 | ILS OR LOC RWY 2, Amdt 24.
21-Jul-16 | HI | Kahului | Kahului | 6/0373 | 6/1/16 | RNAV (GPS) RWY 23, Amdt 1.
21-Jul-16 | HI | Kahului | Kahului | 6/0374 | 6/1/16 | NDB RWY 2, Orig-A.
21-Jul-16 | HI | Kahului | Kahului | 6/0375 | 6/1/16 | RNAV (GPS) Y RWY 2, Amdt 1A.
21-Jul-16 | HI | Kahului | Kahului | 6/0376 | 6/1/16 | VOR RWY 20, Orig-B.
21-Jul-16 | HI | Kahului | Kahului | 6/0377 | 6/1/16 | VOR/DME OR TACAN RWY 20, Orig-A.
21-Jul-16 | OK | Norman | University of Oklahoma Westheimer | 6/0597 | 6/1/16 | ILS OR LOC RWY 18, Amdt 2.
21-Jul-16 | GA | Macon | Middle Georgia Rgnl | 6/0626 | 6/1/16 | VOR RWY 23, Amdt 4B.
21-Jul-16 | IA | Iowa City | Iowa City Muni | 6/0873 | 6/1/16 | RNAV (GPS) RWY 25, Orig-A.
21-Jul-16 | IA | Iowa City | Iowa City Muni | 6/0875 | 6/1/16 | RNAV (GPS) RWY 30, Orig.
21-Jul-16 | IA | Iowa City | Iowa City Muni | 6/0877 | 6/1/16 | VOR-A, Orig.
21-Jul-16 | NY | New York | John F Kennedy Intl | 6/1525 | 6/8/16 | VOR OR GPS RWY 13 L/R, Amdt 18C.
21-Jul-16 | VA | Wallops Island | Wallops Flight Facility | 6/1930 | 6/6/16 | RNAV (GPS) RWY 35, Orig-A.
21-Jul-16 | VA | Wallops Island | Wallops Flight Facility | 6/1931 | 6/6/16 | RNAV (GPS) RWY 28, Amdt 1A.
21-Jul-16 | VA | Wallops Island | Wallops Flight Facility | 6/1932 | 6/6/16 | RNAV (GPS) RWY 22, Amdt 1A.
21-Jul-16 | VA | Wallops Island | Wallops Flight Facility | 6/1933 | 6/6/16 | RNAV (GPS) RWY 17, Amdt 1A.
21-Jul-16 | VA | Wallops Island | Wallops Flight Facility | 6/1934 | 6/6/16 | RNAV (GPS) RWY 4, Amdt 1A.
21-Jul-16 | VA | Wallops Island | Wallops Flight Facility | 6/1935 | 6/6/16 | VOR/DME OR TACAN RWY 10, Amdt 6A.
21-Jul-16 | MN | Worthington | Worthington Muni | 6/2157 | 6/1/16 | RNAV (GPS) RWY 36, Orig.
21-Jul-16 | MN | Worthington | Worthington Muni | 6/2161 | 6/1/16 | RNAV (GPS) RWY 18, Orig-A.
21-Jul-16 | GA | Nahunta | Brantley County | 6/2946 | 6/2/16 | RNAV (GPS) Z RWY 19, Orig-A.
21-Jul-16 | NJ | Woodbine | Woodbine Muni | 6/3045 | 6/6/16 | VOR-A, Amdt 1.
21-Jul-16 | NJ | Woodbine | Woodbine Muni | 6/3049 | 6/6/16 | RNAV (GPS) RWY 1, Orig-A.
21-Jul-16 | OH | Findlay | Findlay | 6/3263 | 6/2/16 | RNAV (GPS) RWY 7, Orig.
21-Jul-16 | SD | Pierre | Pierre Rgnl | 6/3272 | 6/2/16 | ILS OR LOC RWY 31, Amdt 12B.
21-Jul-16 | TX | Fort Stockton | Fort Stockton-Pecos County | 6/4698 | 6/2/16 | VOR RWY 12, Amdt 8.
21-Jul-16 | TX | Fort Stockton | Fort Stockton-Pecos County | 6/4700 | 6/2/16 | VOR/DME RWY 30, Orig.
21-Jul-16 | WI | New Richmond | New Richmond Rgnl | 6/4895 | 6/2/16 | RNAV (GPS) RWY 14, Amdt 2B.
21-Jul-16 | AK | Hooper Bay | Hooper Bay | 6/5332 | 6/8/16 | VOR/DME RWY 31, ORIG-B.
21-Jul-16 | AK | Hooper Bay | Hooper Bay | 6/5333 | 6/8/16 | RNAV (GPS) RWY 31, Amdt 1A.
21-Jul-16 | AK | Hooper Bay | Hooper Bay | 6/5334 | 6/8/16 | RNAV (GPS) RWY 13, Amdt 1A.
21-Jul-16 | FL | Apalachicola | Apalachicola Rgnl-Cleve Randolph Field | 6/5410 | 6/1/16 | RNAV (GPS) RWY 32, Amdt 2B.
21-Jul-16 | FL | Apalachicola | Apalachicola Rgnl-Cleve Randolph Field | 6/5411 | 6/1/16 | RNAV (GPS) RWY 24, Amdt 1B.
21-Jul-16 | RI | Newport | Newport State | 6/5415 | 6/6/16 | LOC RWY 22, Amdt 7C.
21-Jul-16 | RI | Newport | Newport State | 6/5416 | 6/6/16 | RNAV (GPS) RWY 16, Orig-A.
21-Jul-16 | RI | Newport | Newport State | 6/5417 | 6/6/16 | VOR/DME RWY 16, Amdt 1A.
21-Jul-16 | RI | Pawtucket | North Central State | 6/5419 | 6/6/16 | VOR-A, Amdt 7A.
21-Jul-16 | RI | Pawtucket | North Central State | 6/5420 | 6/6/16 | VOR-B, Amdt 7A.
21-Jul-16 | MA | Plymouth | Plymouth Muni | 6/5422 | 6/6/16 | ILS OR LOC/DME RWY 6, Amdt 1D.
21-Jul-16 | MA | Plymouth | Plymouth Muni | 6/5423 | 6/6/16 | RNAV (GPS) RWY 6, Amdt 1B.
21-Jul-16 | RI | Providence | Theodore Francis Green State | 6/5424 | 6/6/16 | ILS OR LOC RWY 34, Amdt 12.
21-Jul-16 | RI | Providence | Theodore Francis Green State | 6/5429 | 6/6/16 | RNAV (GPS) RWY 5, Orig-A.
21-Jul-16 | RI | Providence | Theodore Francis Green State | 6/5430 | 6/6/16 | VOR/DME RWY 23, Amdt 6F.
21-Jul-16 | RI | Providence | Theodore Francis Green State | 6/5431 | 6/6/16 | VOR RWY 5, Amdt 14A.
21-Jul-16 | RI | Providence | Theodore Francis Green State | 6/5432 | 6/6/16 | ILS OR LOC RWY 23, ILS RWY 23 (SA CAT I), ILS RWY 23 (SA CAT II), Amdt 7.
21-Jul-16 | RI | Providence | Theodore Francis Green State | 6/5436 | 6/6/16 | ILS OR LOC RWY 5, ILS RWY 5 (CAT II), ILS RWY 5 (CAT III), Amdt 19.
21-Jul-16 | MA | Norwood | Norwood Memorial | 6/5442 | 6/6/16 | LOC RWY 35, Amdt 10D.
21-Jul-16 | RI | North Kingstown | Quonset State | 6/5443 | 6/6/16 | VOR RWY 34, Amdt 2B.
21-Jul-16 | RI | North Kingstown | Quonset State | 6/5444 | 6/6/16 | VOR-A, Amdt 5C.
21-Jul-16 | CT | Groton (New London) | Groton-New London | 6/5454 | 6/6/16 | RNAV (GPS) RWY 23, Orig-C.
21-Jul-16 | CT | Groton (New London) | Groton-New London | 6/5455 | 6/6/16 | VOR RWY 23, Amdt 10B.
21-Jul-16 | MA | Falmouth | Cape Cod Coast Guard Air Station | 6/5460 | 6/6/16 | ILS OR LOC RWY 32, Amdt 1A.
21-Jul-16 | MA | New Bedford | New Bedford Rgnl | 6/5461 | 6/6/16 | ILS OR LOC RWY 5, Amdt 26.
21-Jul-16 | MA | New Bedford | New Bedford Rgnl | 6/5462 | 6/6/16 | RNAV (GPS) RWY 5, Amdt 1.
21-Jul-16 | MA | Southbridge | Southbridge Muni | 6/5466 | 6/6/16 | RNAV (GPS) RWY 2, Orig-A.
21-Jul-16 | MA | Taunton | Taunton Muni—King Field | 6/5488 | 6/6/16 | NDB RWY 30, Amdt 5B.
21-Jul-16 | LA | Houma | Houma-Terrebonne | 6/5896 | 6/6/16 | COPTER VOR/DME RWY 12, Amdt 4.
21-Jul-16 | LA | Houma | Houma-Terrebonne | 6/5898 | 6/6/16 | RNAV (GPS) RWY 18, Orig.
21-Jul-16 | LA | Houma | Houma-Terrebonne | 6/5899 | 6/6/16 | RNAV (GPS) RWY 36, Orig.
21-Jul-16 | LA | Houma | Houma-Terrebonne | 6/5900 | 6/6/16 | VOR/DME RWY 30, Amdt 12.
21-Jul-16 | LA | Thibodaux | Thibodaux Muni | 6/5903 | 6/6/16 | VOR OR GPS-A, Amdt 1A.
21-Jul-16 | LA | New Orleans | Louis Armstrong New Orleans Intl | 6/5915 | 6/7/16 | RNAV (GPS) Y RWY 11, Amdt 2.
21-Jul-16 | LA | New Orleans | Louis Armstrong New Orleans Intl | 6/5916 | 6/7/16 | RNAV (RNP) Z RWY 11, Amdt 1.
21-Jul-16 | LA | New Orleans | Louis Armstrong New Orleans Intl | 6/5917 | 6/7/16 | VOR/DME RWY 11, Amdt 1.
21-Jul-16 | LA | New Orleans | Louis Armstrong New Orleans Intl | 6/5918 | 6/7/16 | ILS OR LOC RWY 11, ILS RWY 11 (SA CAT I), ILS RWY 11 (CAT II), ILS RWY 11 (CAT III), Amdt 3.
21-Jul-16 | AZ | Kingman | Kingman | 6/5919 | 6/8/16 | VOR/DME RWY 21, AMDT 7B.
21-Jul-16 | LA | Patterson | Harry P Williams Memorial | 6/5938 | 6/15/16 | RNAV (GPS) RWY 6, Orig-A.
21-Jul-16 | LA | Patterson | Harry P Williams Memorial | 6/5940 | 6/15/16 | RNAV (GPS) RWY 24, Amdt 1B.
21-Jul-16 | CA | Paso Robles | Paso Robles Muni | 6/5958 | 6/8/16 | RNAV (GPS) RWY 31, Orig.
21-Jul-16 | LA | Patterson | Harry P Williams Memorial | 6/5959 | 6/15/16 | ILS OR LOC/DME RWY 24, Amdt 2D.
21-Jul-16 | IA | Oelwein | Oelwein Muni | 6/5960 | 6/7/16 | VOR OR GPS-A, Amdt 3A.
21-Jul-16 | IA | Waverly | Waverly Muni | 6/5962 | 6/7/16 | VOR-A, Amdt 3A.
21-Jul-16 | IA | Waterloo | Waterloo Rgnl | 6/5963 | 6/7/16 | ILS OR LOC RWY 12, Amdt 9.
21-Jul-16 | IA | Waterloo | Waterloo Rgnl | 6/5964 | 6/7/16 | LOC BC RWY 30, Amdt 11A.
21-Jul-16 | IA | Waterloo | Waterloo Rgnl | 6/5965 | 6/7/16 | VOR RWY 6, Amdt 3.
21-Jul-16 | IA | Waterloo | Waterloo Rgnl | 6/5966 | 6/7/16 | VOR RWY 12, Amdt 10.
21-Jul-16 | IA | Waterloo | Waterloo Rgnl | 6/5967 | 6/7/16 | VOR RWY 18, Amdt 8A.
21-Jul-16 | IA | Waterloo | Waterloo Rgnl | 6/5968 | 6/7/16 | VOR RWY 24, Amdt 16A.
21-Jul-16 | LA | Galliano | South Lafourche Leonard Miller Jr | 6/5972 | 6/6/16 | ILS OR LOC/DME RWY 36, Amdt 1.
21-Jul-16 | LA | Galliano | South Lafourche Leonard Miller Jr | 6/5973 | 6/6/16 | RNAV (GPS) RWY 18, Amdt 2.
21-Jul-16 | LA | Galliano | South Lafourche Leonard Miller Jr | 6/5974 | 6/6/16 | RNAV (GPS) RWY 36, Amdt 1.
21-Jul-16 | VA | Wallops Island | Wallops Flight Facility | 6/6317 | 6/6/16 | VOR OR TACAN RWY 17, Amdt 7A.
21-Jul-16 | KS | Smith Center | Smith Center Muni | 6/6870 | 6/2/16 | RNAV (GPS) RWY 32, Orig.
21-Jul-16 | KS | Smith Center | Smith Center Muni | 6/6880 | 6/2/16 | RNAV (GPS) RWY 14, Orig.
21-Jul-16 | FL | Tallahassee | Tallahassee Intl | 6/6953 | 6/8/16 | RNAV (GPS) RWY 27, Amdt 2.
21-Jul-16 | WV | Beckley | Raleigh County Memorial | 6/7099 | 6/1/16 | ILS OR LOC RWY 19, Amdt 6A.
21-Jul-16 | WV | Beckley | Raleigh County Memorial | 6/7100 | 6/1/16 | RNAV (GPS) RWY 19, Amdt 1A.
21-Jul-16 | WV | Beckley | Raleigh County Memorial | 6/7101 | 6/1/16 | RNAV (GPS) RWY 10, Amdt 1A.
21-Jul-16 | WV | Beckley | Raleigh County Memorial | 6/7102 | 6/1/16 | RNAV (GPS) RWY 1, Amdt 1A.
21-Jul-16 | WV | Beckley | Raleigh County Memorial | 6/7104 | 6/1/16 | RNAV (GPS) RWY 28, Amdt 1A.
21-Jul-16 | MI | Lambertville | Toledo Suburban | 6/7937 | 6/1/16 | VOR OR GPS-A, Amdt 7.
21-Jul-16 | TX | Terrell | Terrell Muni | 6/7945 | 6/6/16 | RNAV (GPS) RWY 17, Orig.
21-Jul-16 | NJ | Newark | Newark Liberty Intl | 6/8187 | 6/8/16 | RNAV (GPS) RWY 11, Orig-D.
21-Jul-16 | NJ | Newark | Newark Liberty Intl | 6/8188 | 6/8/16 | RNAV (GPS) RWY 22R, Amdt 1C.
21-Jul-16 | NJ | Newark | Newark Liberty Intl | 6/8189 | 6/8/16 | COPTER ILS/DME RWY 22L, Orig-C.
21-Jul-16 | VT | Burlington | Burlington Intl | 6/8795 | 6/8/16 | ILS OR LOC/DME RWY 15, Amdt 24.
21-Jul-16 | MA | Beverly | Beverly Muni | 6/8823 | 6/8/16 | VOR RWY 16, Amdt 5B.
21-Jul-16 | MA | Beverly | Beverly Muni | 6/8843 | 6/8/16 | RNAV (GPS) RWY 27, Orig-C.
21-Jul-16 | MA | Beverly | Beverly Muni | 6/8850 | 6/8/16 | LOC RWY 16, Amdt 7B.
21-Jul-16 | MA | Beverly | Beverly Muni | 6/8851 | 6/8/16 | RNAV (GPS) RWY 16, Amdt 1C.
21-Jul-16 | MA | Beverly | Beverly Muni | 6/8853 | 6/8/16 | RNAV (GPS) RWY 34, Orig-B.
21-Jul-16 | SC | Mount Pleasant | Mt Pleasant Rgnl-Faison Field | 6/9457 | 6/8/16 | RNAV (GPS) RWY 35, Orig-B.
21-Jul-16 | SC | Mount Pleasant | Mt Pleasant Rgnl-Faison Field | 6/9459 | 6/8/16 | VOR/DME-A, Amdt 1A.
21-Jul-16 | SC | Mount Pleasant | Mt Pleasant Rgnl-Faison Field | 6/9460 | 6/8/16 | RNAV (GPS) RWY 17, Orig-B.

[FR Doc. 2016-15989 Filed 7-8-16; 8:45 am]

BILLING CODE 4910-13-P